FEDERAL COMMUNICATIONS COMMISSION

47 CFR Part 73

[MB Docket No. 21-54; RM-11879; DA 21-163; FR ID 21651]

Television Broadcasting Services; Peoria and Oswego, Illinois; Correction

AGENCY: Federal Communications Commission.

ACTION: Proposed rule; correction.

SUMMARY: The Federal Communications Commission published a document in the Federal Register of April 12, 2021, concerning a petition for rulemaking filed by Four Seasons Peoria, LLC (Petitioner), licensee of television station WAOE, channel 10, Peoria, Illinois, requesting an amendment of the DTV Table of Allotments to delete channel 10 at Peoria, Illinois, and substitute channel 10 at Oswego, Illinois. The document contained an incomplete address for counsel of petitioner.

DATES: April 21, 2021.

FOR FURTHER INFORMATION CONTACT: Shaun Maher, Media Bureau, at (202) 418-2324 or Shaun.Maher@fcc.gov.

SUMMARY:

Correction

In FR Doc. 2021-07442, in the Federal Register of April 12, 2021, on page 18934, in the second column, correct the Addresses caption to read:

ADDRESSES: Federal Communications Commission, Office of the Secretary, 45 L Street NE, Washington, DC 20554. In addition to filing comments with the FCC, interested parties should serve counsel for petitioner as follows: Joan Stewart, Esq., Wiley Rein LLP, 1776 K Street NW, Washington, DC 20006.

Dated: April 14, 2021.
Thomas Horan,
Chief of Staff, Media Bureau.

[FR Doc. 2021-08269 Filed 4-20-21; 8:45 am]

BILLING CODE 6712-01-P